DEPARTMENT OF LABOR

Office of the Secretary

A China Labor Rule of Law Program

AGENCY: Bureau of International Labor Affairs, Department of Labor.

ACTION: Notice of Availability of Funds and Solicitation for Cooperative Agreement Applications (SGA 02-18).

This notice contains all of the necessary information and forms needed to apply for cooperative agreement funding.

SUMMARY: The U.S. Department of Labor (USDOL), Bureau of International Labor Affairs (ILAB), will award up to US $4.5 million through one or more cooperative agreements to an organization or organizations (“the applicant”) to develop and implement a program that focuses on the promotion of labor rule of law in the People's Republic of China (“China”). USDOL is seeking applications from qualified applicants for the development of a strategy for the enhancement of labor rule of law and for the implementation of such a program through collaboration with central and local government agencies, academic institutions, and NGOs. Each applicant will submit one proposal for the entire program. USDOL, however, reserves the right to award more than one cooperative agreement for the implementation of the projects.

DATES: The closing date for receipt of applications is September 4th, 2002. As described in Section III, A and B, applications must be received by 4:45 p.m. (Eastern Daylight Savings Time) at the address below. No exceptions to the mailing, delivery, and hand-delivery conditions set forth in this notice will be granted. Applications that do not meet the conditions set forth in this notice will not be honored.

ADDRESSES: Application forms will not be mailed. They are published in this Federal Register Notice, and in the Federal Register which may be obtained from your nearest U.S. Government office, public library or on-line at http://www.archives.gov/federal_register/index. Applications must be delivered to: U.S. Department of Labor, Procurement Services Center, 200 Constitution Avenue, NW, Room N-5416, Attention: Lisa Harvey, Reference: SGA 02-18, Washington, DC 20210. Applications sent by e-mail, telegram, or facsimile (FAX) will not be accepted. Applications sent by other delivery services, such as Federal Express, UPS, etc., will be accepted; however, the applicant bears the responsibility for timely submission.

FOR FURTHER INFORMATION CONTACT: Lisa Harvey: e-mail address: harvey-lisa@dol.gov. All applicants are advised that U.S. mail delivery in the Washington, DC area has been slow and erratic due to the recent enhanced security measures. All applicants must take this into consideration when preparing to meet the application deadline. It is recommended that you confirm receipt of your application by contacting Lisa Harvey, U.S. Department of Labor, Procurement Services Center, telephone (202) 693-4570, prior to the closing deadline. All inquiries should reference SGA 02-18. See Section III.B for further information.

SUPPLEMENTARY INFORMATION: ILAB announces the availability of funds to be granted by cooperative agreement(s) to one or more qualifying organization to achieve the following program objectives: (1) Enhance the Chinese government's capacity to develop laws and regulations to implement internationally recognized workers rights; (2) promote greater awareness of labor law among Chinese workers and employers; (3) improve industrial relations and develop a national system to educate government officials, employers, workers and academics on worker rights, collective bargaining, and labor dispute prevention and resolution; and (4) enhance legal aid services to workers and migrant laborers, providing services through government and non-governmental organizations. The cooperative agreement(s) will be carried out through project(s) with China's national government in Beijing and through pilot projects in one or more of the following cities: Shenyang, Chengdu, Shanghai, and Guangzhou. Proposals of pilot projects in other cities will also be considered, provided that the cities are located within a reasonable distance from a U.S. Consulate General. In each city, the pilot project should focus on one or more of the above-mentioned objectives, depending on the specific needs of each city. In choosing cities for pilot project(s), applicants are encouraged to engage financial and human resources in the city or cities where the pilot project(s) is most likely to produce demonstrable results and success. It is neither necessary nor desirable to propose pilot projects in all these cities, unless the applicant can demonstrate that there are adequate financial and human resources to ensure project success. In addition, any successful pilot project should address the specific challenges in each locality but should also be mindful of the needs of national policymakers in China. Each pilot project should be relevant to the local labor conditions and problems and should supplement the overall program objectives. Finally, the designs of these pilot projects should reflect the understanding of and appropriate strategy to deal with China's current central-local relations, i.e., proposals should be sensitive to the needs and conditions of municipal and provincial governments while also respecting national laws, procedures and policies.

Applicants are advised that USDOL is also currently soliciting grant applications under a separate SGA, SGA 02-17, to implement a program to improve mine safety in China.

The cooperative agreement(s) is to be actively managed by ILAB to assure the achievement of the stated objectives. Applicants are encouraged to be creative in proposing an innovative and cost-effective program that will have a demonstrable impact on achieving the overall objectives. Applicants are strongly encouraged to form partnerships with other national, international, or Chinese organizations to submit a joint proposal.

Limitation: Technical assistance under the proposed program may not be provided to the All-China Federation of Trade Unions. For additional information, see 22 U.S.C. 6981 (b)(3).

I. Background and Program Scope

A. Background: Labor Rule of Law

In China, several government agencies are responsible for administrating labor law at the national, provincial and municipal levels. At the national level, the Ministry of Labor and Social Security (MOLSS) is the principal policy-making institution.

The enforcement of national labor law and regulations is carried out by provincial and municipal bureaus of labor and social security, which are under the jurisdiction of the municipal or provincial government; they receive policy and technical guidance from MOLSS. Provincial and municipal governments also establish local regulations and policies for the implementation of national laws and policies.

(i) Labor Law Enforcement: Implementing of National Laws

Over the past decade, China has taken steps toward establishing laws and regulations and creating institutions in the labor area.¹ However, the enforcement of these laws and regulations remains problematic at both the national level as well as the local level. China's 1994 Labor Law establishes fundamental legal principles in the following nine areas:

¹ See, for example, Chang Kai, Li Qi, and Bama Athreya, A Comparison between International Labor Standards and Chinese Labor Standards, August 2001, unpublished manuscript: available from the US-China Business Council or the International Labor Rights Fund; CLB Analysis of the New Trade Union Law, in China Labor Bulletin, http://iso.china-labour.org.hk, online February 28, 2002.

• Promotion of employment

• Labor contracts and collective contracts

• Working hours, rest, and leave

• Wages

• Labor safety and sanitation

• Special protection for female staff and workers and juvenile workers

• Professional training

• Social insurance and welfare treatment

• Labor disputes

In each of these areas, the law provides the basic legal framework and guidelines but does not provide sufficient detail to implement these basic principles. The MOLSS formulates regulations and directions in each of the areas. Without adequate regulations, the government cannot protect the rights of workers as provided by the 1994 Labor Law. Enforcement is a major challenge in small and medium enterprises where violations (most often non-payment of wages and overtime and unsafe working conditions) reportedly occur most frequently.

Moreover, inspectors are not well trained as a result of the government's limited budget for training and the lack of modern training methods and materials. Many of the available training resources were developed in the 1960s and the training system is in dire need of modernization. Finally, traditional labor inspection techniques were developed for use in state-owned-enterprises (SOEs) under China's planned economy. China now needs a modern and capable inspection staff that can work to promote and enforce the law with privately owned enterprises, foreign invested enterprises, small to medium-sized SOEs, and township and village enterprises.

(ii) Worker Education: Promoting Awareness of Labor Laws

As China continues the transition toward a market-oriented economy, fear of unemployment often inhibits workers from exercising their rights at work. China's economic reforms have displaced about 150 million rural workers who seek employment in urban areas. Competition for jobs often leads workers to accept jobs that do not pay the legal minimum wage, over-time wages, holiday pay, maternity leave, or provide a safe and healthy working environment. It also leads to unscrupulous management practices and abuse by employers.

Most of the labor-intensive, low paying jobs in urban areas are filled by migrant workers, often young women, who have little education or employment experience. These workers have the greatest need to learn about their rights and responsibilities granted by national labor law.

Workers' lack of awareness and understanding of China's labor laws and regulations often prevents them from exercising their rights. The government and a very small number of NGOs are making some effort to educate workers about labor law. For example, several cities, including Shanghai, Guangzhou, and Shenzhen, initiated ad hoc workshops for job-seekers and migrant laborers to explain to them rules and regulations regarding work permits, wages and overtime payments, and other rights and obligations. A few NGOs in Guangzhou also provide information to migrant workers who seek guidance on employment laws regarding workplace disputes. However, these efforts cover only a small portion of the workforce and the services provided tend to be sporadic.

(iii) Industrial Relations: Training and Education on Rights, Collective Bargaining and Dispute Prevention and Resolution

Industrial relations in China are changing profoundly, but the legal and regulatory framework for industrial relations has not kept pace with these changes. There is no effective national structure for the promotion and education of negotiations among government, employers and workers.

An increasing number of workers are taking disputes to formal arbitration mechanisms. These mechanisms are not fully developed and are perceived as not always being staffed with well-trained neutral arbitrators. Chinese officials and analysts have spoken publicly about the need to adopt a new style of labor relations. Lawyers and workers, in small but potentially significant numbers, have begun to utilize the courts to adjudicate disputes and protect the rights of workers following the arbitration process.²

² U.S. Department of State Cable, Unclas Beijing 2001, 011990, December 12, 2001.

China currently has a small but growing corps of young lawyers, but few have expertise on labor issues. China has seen a sharp increase in labor disputes in recent years. According to official MOLSS statistics, arbitration committees nationwide handled over 135,000 labor disputes in 2000, an increase of 12.5 percent over the previous year.³ Given China's evolving industrial relations, the need for legal and managerial professionals in the labor area is growing steadily.

³ U.S. Department of State, China: Country Reports on Human Rights Practices, 2001, March 4, 2002.

The international community is lending technical assistance to China to address industrial relations issues. The International Labor Organization (ILO) is implementing a technical assistance project to improve human resource management and labor management relations in three cities in China.⁴ The ILO project seeks to address three topics: (1) the development of high quality human resource practices; (2) the promotion of sound labor-management relations; and (3) the upgrading of working conditions and productivity in small and medium enterprises. Other international donors, such as the Ford Foundation and the government of the Netherlands, are supporting a number of small pilot projects that focus on legal aid to workers in Guangdong, Shanghai, and Beijing.⁵

⁴ For more information, see ILO project CPR/00/MO1/SW1, available from ILO Washington DC branch office, 202-653-7652.

⁵ It is advisable that the applicants contact these organizations directly to obtain further information about these projects. Ford Foundation Beijing Office, telephone 8610-6532-6668; Royal Netherlands Embassy in Beijing, telephone 8610-6532-1131.

(iv) Legal Aid: Improving Services to Workers

Women and migrants are China's most vulnerable workers.⁶ Many workers do not seek effective protection from labor abuse because they are not aware of their rights and obligations under the law. While in recent years the Chinese government has enhanced its efforts to provide improved benefits and protections for workers, workers are frequently ignorant of these changes.

⁶ Asia Foundation working paper, Migrant Women Workers and Emerging Civil Society in China, Zhang Ye, October 22, 2001.

Local governments provide some legal assistance in all areas of law (criminal, civil and labor) to eligible citizens, including workers, through legal aid centers, but such assistance is extremely limited in both the number of citizens it serves and the quality of service provided. The legal aid centers are typically run by the local bureaus of justice, and are often under-staffed and under-budgeted. For example, in a district in Shanghai, where the legal aid services are supposedly the best in the country, the legal aid center is staffed by two lawyers who offer consulting services to qualified citizens on a walk-in basis and four additional law professionals who staff legal telephone hotlines. According to city officials, the center was visited by nearly 7,000 persons in the past year and received over 11,000 telephone inquiries. Such high levels of demand for such a small staff put the quality of service at risk, and limit the number of persons who can be assisted.

Some NGOs are beginning to provide legal aid services as a part of their overall mission. A handful of NGOs in Guangzhou and Shenzhen provide legal aid services to migrant workers, particularly to women. However, such NGOs are extremely limited in number and most lack the human and financial resources to expand their services beyond the several dozen cases they work on each year.

B. Program Scope

For any proposal to be considered responsive to this solicitation, it must contain proposed projects that cover all of the following four aspects, with each corresponding to issues identified in section A.

(i) Labor Legislation and Labor Law Administration

Applicants should seek to propose project(s) that (1) assist the government in developing laws and regulations, emphasizing employment promotion, labor contracts and labor inspection, to protect workers' rights as provided in China's 1994 Labor Law, taking into consideration ILO international labor standards; (2) develop a national system for the training of government officials concerned with implementation and enforcement of national labor laws and regulations; (3) provide the government with technical expertise and other resources for the training of officials at all levels, and; (4) develop training materials and techniques and provide training for labor inspectors to enhance their abilities and effectiveness. Applicants are encouraged to design pilot projects in localities and to engage local and central government agencies, as well as national universities, where appropriate.

(ii) Labor Law Awareness

All applications should include a means to develop an educational infrastructure on labor law to educate workers and employers about their legal rights, protections and responsibilities under national labor laws and regulations. Particular attention should be directed to reaching socially and economically disadvantaged groups, such as women and migrant workers; and privately owned enterprises. Applicants are encouraged to develop innovative forms of cooperative relationships with national organizations, including non-governmental organizations.

(iii) Industrial Relations

Applicants should include a project to (1) promote innovative forms of labor-management cooperation in the workplace; (2) develop practical and effective ways to improve the existing labor dispute prevention and resolution system; and (3) develop a national, sustainable system for the diffusion of knowledge and best international practices in the areas of worker rights, collective bargaining, and dispute prevention and resolution among key government officials, employers, workers, and academics.

(i) Legal Aid

All applicants should include a project to (1) work with appropriate organizations to provide legal services in the labor area to workers; (2) provide training both in the area of legal knowledge as well as effective methods of providing legal service to workers, especially migrant and women workers; (3) develop sustainable institutional capacities in China for the continuation of legal services to workers beyond the program period; and (4) develop a labor and social security legal information consultation system to provide a network platform for western provinces and finally establish a national network to provide legal consultation services in the labor area. Applicants are encouraged to form partnerships with NGOs, including universities and research institutes, which are already providing legal aid to workers. Applicants are strongly encouraged to form new partnerships in China for the same purpose.

II. Authority

ILAB is authorized to award and administer this program by the Departments of Labor, Health and Human Services, and Education and Related Agencies Appropriations Act, 2002, Pub. L. No. 107-116, 115 Stat. 2177 (2002).

III. Application Process

A. Eligible Applicants

Any commercial, international, or non-profit organization, which may include faith-based organizations, capable of successfully implementing a labor rule of law program in China, and successfully working with MOLSS, local labor bureaus, local work safety bureaus, courts, NGOs, Chinese legal professionals, Chinese universities and other appropriate agencies or organizations in China to meet the stated program objectives is eligible to apply for this cooperative agreement. An applicant may, and indeed is encouraged, to collaborate with other organizations in submitting a joint proposal, although in such a case a lead organization must be identified. The capability of an applicant and collaborating organizations to perform necessary aspects of this solicitation will be determined under Section V. B Rating Criteria and Selection.

Please note that eligible cooperative agreement applicants must not be classified under the Internal Revenue Code as a Section 501(c)(4) entity. See 26 U.S.C. 501(c)(4). According to the Lobbying Disclosure Act of 1995, as amended, 2 U.S.C. 1611, an organization, as described in section 501(c)(4) of the Internal Revenue Code of 1986, that engages in lobbying activities will not be eligible for the receipt of federal funds constituting an award, grant, or loan.

B. Submission of Applications

One (1) ink-signed original, complete application plus two (2) copies must be submitted to the U.S. Department of Labor, Procurement Services Center, 200 Constitution Avenue, NW., Room N-5416, Washington, DC 20210, not later than 4:45 p.m. EDST, September 4th, 2002.

The application must consist of two (2) separate parts. Part I of the application must contain the Standard Form (SF) 424, “Application for Federal Assistance” (Appendix A) (The entry on SF 424 for the Catalog of Federal Domestic Assistance Number (CFDA) is 17.700) and sections A-F of the Budget Information Form SF 424A (Appendix B). Part II must contain a technical proposal that demonstrates capabilities in accordance with the Statement of Work (Section IV.A) and the selection criteria (Section V.B).

To be considered responsive to this solicitation, the application must consist of the above-mentioned separate sections not to exceed 40 single-sided (8½″ x 11″), double-spaced, 10 to 12 pitch typed pages. Any applications that do not conform to these standards may be deemed non-responsive to this solicitation and may not be evaluated. Standard forms and attachments are not included in the page limit. The application must include a table of contents and an abstract summarizing the application in not more than two (2) pages. These pages are also not included in the page limits.

Upon completion of negotiations, the individual signing the SF 424 on behalf of the applicant must be authorized to bind the applicant.

C. Acceptable Methods of Submission

The grant application package must be received at the designated place by the date and time specified or it will not be considered. Any application received at the Procurement Services Center after 4:45 p.m. EDST, September 4, 2002, will not be considered unless it is received before the award is made and:

1. it was sent by registered or certified mail not later than the fifth calendar day before September 4, 2002;

2. it is determined by the Government that the late receipt was due solely to mishandling by the Government after receipt at the U.S. Department of Labor at the address indicated; or

3. it was sent by U.S. Postal Service Express Mail Next Day Service-Post Office to Addressee, not later than 5 p.m. at the place of mailing two (2) working days, excluding weekends and Federal holidays, prior to September 4, 2002.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office.

Applications sent by e-mail, telegram, or facsimile (FAX) will not be accepted. Applications sent by other delivery services, such as Federal Express, UPS, etc., will be accepted, however, the applicant bears the responsibility for timely submission. Because of delay in the receipt of mail in the Washington, DC area, it is recommended that you confirm receipt of your application by contacting Lisa Harvey, U.S. Department of Labor, Procurement Services Center, telephone (202) 693-4570 (this is not a toll-free number), prior to the closing deadline. All inquires should reference SGA 02-18.

D. Funding Levels

Approximately US$4.5 million is budgeted to fund this program. Although USDOL reserves the right to award more than one cooperative agreement, joint applications, consisting of more than one organization may apply to implement the program. Applicants will submit one application for the implementation of all projects (including pilot projects in localities) and are encouraged to utilize local organizations to implement portions of the program in order to institutionalize and sustain project improvements and reduce costs.

The award of any sub-contract to a local organization will be subject to USDOL approval. See Section IV.D Administrative Requirements.

E. Program Duration

The duration of the program is four (4) years. The start date of project activities will be negotiated upon the awarding of the cooperative agreements.

IV. Requirements

A. Statement or Work

In developing their proposals, applicants should develop a strategy for implementation of the project objectives as stated in the section SUPPLEMENTARY INFORMATION. The strategy should take into account the implementing environment in China as well as that of the specific cities selected for pilot projects. For the labor law administration component of the proposal (see Section I.B.(i)), the proposed strategy should clearly identify areas in which laws and regulations are to be developed under this program. The strategy should also identify the major components, methods and approaches of the proposed “national system” for the training of Chinese officials in the administration of labor law. Further, the strategy should identify cities for pilot projects and should clearly demonstrate how the pilot projects serve to achieve the overall program objectives. Finally, the strategy should clearly identify key organizations or universities with which the applicant proposes to form partnerships. For the labor law awareness component (see Section I.B.(ii)), the strategy should clearly identify the organization(s) or other venues through which workers and employers can be reached. For the industrial relations component (see Section I.B.(iii)), the strategy should identify partners and effective ways of providing education and training at the national level to prevent and resolve labor disputes. For the legal aid component (see section I.B.(iv)), the strategy should include both the identification of organizations to provide such services as well as plans to expand and sustain such services beyond the program period.

The strategy should also demonstrate how the applicant proposes to build upon the success of existing or past projects supported by other international donors, and coordinate activities among them at the local and national level. Further, the applicant should draft a strategy demonstrating how it will meet the project objectives by the end of the grant period, and how sustainability will be an integral element of the overall program.

The applicant must present a strategy to demonstrate that at least

• 80% of the target groups (targeted for training or education of labor law) exhibit an increased awareness of workers' and employers' rights as provided under national laws;

• 50% of the target groups (targeted for legal aid assistance) receive adequate legal assistance or counseling;

• 50% of targeted employers develop and implement workplace policies or programs aimed at improving employer-employee relations; and

• 80% of government inspectors of general labor law demonstrate greater skill in carrying out their functions.

The applicant should include a basis on which the target groups will be established (i.e., target industries, regions or disadvantaged groups), outline the information, education, and communication (IEC) materials that will be used as well as a strategy for translating education and capacity building efforts into concrete and demonstrable results. In addition, the applicant should develop sustainable innovative strategies for involving government and employers organizations, and nongovernmental organizations, as appropriate, in the development, implementation and enforcement of appropriate workplace policies at the national and enterprise levels aimed at ensuring workers' and employers' rights under the law.

The applicant awarded the cooperative agreement (“grantee”) will be required to work cooperatively with stakeholders in China, including but not limited to, MOLSS, local bureaus of labor and social security, local bureaus of work safety, provincial and city governments, NGOs, universities, research institutions, and other national or international organizations that work in similar areas. In addition, the grantee is expected to identify one or more key national or regional organizations that are capable of ensuring the sustainability of the program beyond the grant period.

B. Deliverables

Following the award of the cooperative agreement(s), unless otherwise indicated, the grantee must submit copies of all required reports to USDOL by the specified due dates. Other documents, such as project designs, are to be submitted by mutually agreed-upon deadlines.

1. Project Designs

Grantee(s) will travel to cities in China with USDOL officials on a project design mission trip, draft the design, and submit a project document in the format established by USDOL, to include a background/justification section, project strategy (objectives, outputs, activities, indicators), project implementation timetable, project management organizational chart, project budget, logical framework and performance monitoring plan to systematically monitor project results. The document will also include sections, which cover coordination strategies, project management, and sustainability of project improvements involving government, employers' and workers' organizations as well as other nongovernmental organizations as appropriate. The project design will be drawn, in part, from the proposal written in response to this solicitation.

2. Technical Progress Reports

The grantee(s) must furnish a typed technical report to USDOL on a quarterly basis, no later than 15 days from the last date of each quarter, i.e., 31 March, 30 June, 30 September and 31 December of each year. The 30 June (2nd quarter) and 31 December (4th quarter) reports are abbreviated and need only indicate whether the work plan was fully implemented and if not, explain why not and attach the amended work plan. The grantee(s) must also furnish a separate financial report (SF 272) to USDOL on the same quarterly basis. The format for the technical progress report will be the standard format developed by USDOL and must contain the following information:

a. For each project objective, an accurate account of activities carried out under that objective during the reporting period as it relates to the work plan;

b. Major trends in the project that note particular success with a particular activity or trends that indicate a need to readjust or expand the work plan;

c. An account of problems, proposed solutions, actions taken or required regarding implementation of the project;

d. New proposals for activities, staffing, funding, etc.;

e. Lessons learned in project implementation;

f. Future actions planned in support of each project objective;

g. An accounting of staff and any sub-contractor hours expended; and

h. Aggregate amount of costs incurred during the reporting period, including estimated expenditures vs. budget.

3. Annual Work Plan

An annual work plan for each project will be submitted within 45 days after the approval of the project design by USDOL. Subsequent annual work plans, when revised, will be delivered to reflect modifications in implementation, no later than one year following submission of the previous work plan; or to reflect revisions based on recommendations made during mid-term evaluations, no later than 30 days following the mid-term evaluation.

4. Monitoring and Evaluation

A performance monitoring plan will be developed in collaboration with USDOL, including beginning and ending dates for projects, planned and actual dates for mid-term and final project evaluations, and will be included as part of the submission of the project document for USDOL approval. The plan will include performance indicators and instruments to collect and report on performance data on a semi-annual basis.

5. Evaluation Reports

The Grant Officer's Technical Representative (GOTR) will determine whether a mid-term evaluation will be conducted by an internal or external evaluation team. The final evaluation will be external in nature. In all cases, evaluations will be objective and carried out by independent evaluators. The grantee(s) must respond to any comments and recommendations resulting from the review of the mid-term report and will submit a work plan for implementing the recommendations of the mid-term report within 15 days following formal submission of the report to the grantee(s) by USDOL. Applicants need to allocate funds for these activities in the proposed budget.

C. Production of Deliverables

1. Materials Prepared and Purchased Under the Cooperative Agreement.

The grantee(s) must submit to USDOL all media-related and educational materials developed by it or its sub-contractor under this cooperative agreement(s), including relevant press releases, for use in this project(s) before they are reproduced, published, or used. The grantee(s) must consult with USDOL to ensure that materials are compatible with USDOL materials relating to the program, i.e., public relations material such as video and web site. USDOL considers brochures, pamphlets, videotapes, slide-tape shows, curricula, and any other training materials used in the program, educational materials. USDOL will review materials for technical accuracy. USDOL will also review training curricula and purchased training materials for accuracy before they are used. The grantee(s) must obtain prior approval from the Grant Officer for all materials developed or purchased under this cooperative agreement. All materials produced by grantee(s) must be provided to USDOL in a digital format for possible publication on the Internet by USDOL.

2. Acknowledgment of USDOL Funding

In all circumstances, the following must be displayed on printed materials:

Preparation of this item was funded by the United States Department of Labor under Cooperative Agreement No. [insert the appropriate cooperative agreement number].

When issuing statements, press releases, requests for proposals, bid solicitations, and other documents describing projects or programs funded in whole or in part with Federal money, all grantees receiving Federal funds, including State and local governments and recipients of research grants, must clearly state:

a. The percentage of the total costs of the program or project that will be financed with Federal money;

b. The dollar amount of Federal funds for the project or program; and

c. The percentage and dollar amount of the total costs of the project or program that will be financed by non-governmental sources.

In consultation with USDOL, USDOL's role will be acknowledged in one of the following ways:

a. The USDOL logo may be applied to USDOL-funded material prepared for world-wide distribution, including posters, videos, pamphlets, research documents, national survey results, impact evaluations, best practice reports, and other publications of global interest. The grantee(s) will consult with USDOL on whether the logo should be used on any such items prior to final draft or final preparation for distribution. In no event shall the USDOL logo be placed on any item until USDOL has given the grantee written permission to use the logo, after obtaining appropriate internal USDOL approval for use of the logo on the item.

b. If the USDOL determines the logo is not appropriate and does not give written permission, the following notice must appear on the document:

This document does not necessarily reflect the views or policies of the U.S. Department of Labor, nor does mention of trade names, commercial products, or organizations imply endorsement by the U.S. Government.

D. Administrative Requirements

1. General

Grantee organizations will be subject to applicable Federal laws (including provisions of appropriations law) and the applicable Office of Management and Budget (OMB) Circulars. Determinations of allowable costs will be made in accordance with the applicable Federal cost principles, i.e., Non-Profit Organizations—OMB Circular A-122. The cooperative agreement(s) awarded under this SGA will be subject to the following administrative standards and provisions, if applicable:

29 CFR part 36—Federal Standards for Nondiscrimination on the Basis of Sex in Education Programs or Activities Receiving Federal Financial Assistance.

29 CFR part 93—New Restrictions on Lobbying.

29 CFR part 95—Uniform Administrative Requirements for Grants and Agreements with Institutions of Higher Education, Hospitals and Other Non-Profit Organizations, and with Commercial Organizations, Foreign Governments, Organizations Under the Jurisdiction of Foreign Governments and International Organizations.

29 CFR part 96—Federal Standards for Audit of Federally Funded Grants, Contracts and Agreements.

29 CFR part 98—Federal Standards for Government-wide Debarment and Suspension (Nonprocurement) and Government-wide Requirements for Drug-Free Workplace (Grants).

29 CFR part 99—Federal Standards for Audits of States, Local Governments, and Non-Profit Organizations.

2. Sub-Contracts

Sub-contracts must be awarded in accordance with 29 CFR 95.40-48. In compliance with Executive Orders 12876 as amended, 13230, 12928, and 13021 as amended, the grantee(s) is strongly encouraged to provide subcontracting opportunities to Historically Black Colleges and Universities, Hispanic-Serving Institutions and Tribal Colleges and Universities.

3. Key Personnel

The applicant must list the individual(s) who has been designated as having primary responsibility for the conduct and completion of all work in project(s) it proposes. The grantee(s) agrees to inform the GOTR whenever it appears impossible for one or more of these individual(s) to continue work on the project as planned. The grantee(s) may nominate substitute personnel for approval of the GOTR; however, the grantee(s) must obtain prior approval from the Grant Officer for all key personnel. If the Grant Officer determines not to approve the personnel change, he/she reserves the right to terminate the cooperative agreement.

4. Encumbrance of Cooperative Agreement Funds

Cooperative agreement funds may not be encumbered/obligated by the grantee(s) before or after the cooperative agreement period of performance. Encumbrances/obligations outstanding as of the end of the cooperative agreement period may be liquidated (paid out) after the end of the cooperative agreement period. Such encumbrances/obligations may involve only commitments for which a need existed during the cooperative agreement period and which are supported by approved contracts, purchase orders, requisitions, invoices, bills, or other evidence of liability consistent with the grantee(s)'s purchasing procedures and incurred within the cooperative agreement period. All encumbrances/obligations incurred during the cooperative agreement period must be liquidated within 90 days after the end of the cooperative agreement period, if practicable.

5. Site Visits

USDOL, through its authorized representatives, has the right, at all reasonable times, to make site visits to review project accomplishments and management control systems and to provide such technical assistance as may be required. If USDOL makes any site visit on the premises of the grantee(s) or a sub-contractor(s) under this cooperative agreement(s), the grantee(s) must provide and must require its sub-contractors to provide all reasonable facilities and assistance for the safety and convenience of the Government representatives in the performance of their duties. All site visits and evaluations must be performed in such a manner as will not unduly delay the work.

V. Review and Selection of Applications for Cooperative Agreement Award

A. The Review Process

USDOL will screen all applications to determine whether all required elements are present and clearly identifiable. A technical panel will objectively rate each complete application against the criteria described in this announcement. The panel recommendations to the Grant Officer are advisory in nature. The Grant Officer may elect to select one or more grantee/s on the basis of the initial proposal submission; or, the Grant Officer may establish a competitive or technically acceptable range for the purpose of selecting qualified applicants. If deemed appropriate, following the Grant Officer's call for the preparation and receipt of final revisions of proposals, the evaluation process described above will be repeated to consider such revisions. The Grant Officer will make a final selection determination based on what is most advantageous to the Government, considering factors such as panel findings, geographic presence of the applicants, the best value to the Government, cost, and other factors. The Grant Officer's determination for award under this SGA 02-18 is final.

Notice: Selection of an organization as a cooperative agreement recipient does not constitute approval of the cooperative agreement application as submitted. Before the actual cooperative agreement is awarded, the Grant Officer may enter into negotiations concerning such items as program components, funding levels, and administrative systems. If the negotiations do not result in an acceptable submission, the Grant Officer reserves the right to terminate the negotiation and decline to fund the application.

B. Rating Criteria and Selection

The technical panel will review grant applicants against the criteria listed below on the basis of 100 points.

The criteria are presented in the order of emphasis that they will receive.

1. Approach, Understanding of the Issue, and Program Plans (40 points)

a. Overview. This section of the proposal must explain the strategy employed by the applicant to achieve the following results:

(1) At least 80% of the target group (targeted for training or education of labor law) exhibits an increased awareness of workers' and employers' rights as provided under the laws;

(2) At least 50% of the target group (targeted for legal aid assistance) receive adequate legal assistance or counseling;

(3) At least 50% of targeted employers have developed and implemented workplace policies or programs aimed at improving employer-employee relations; and

(4) At least 80% of targeted government labor law inspectors acquire increased skills to carry out their functions.

The applicant must describe in detail the proposed approach to comply with each requirement in Section IV.A of this solicitation, including all tasks and methods to be utilized to implement the project. Also, the applicant must propose projects that would address issues discussed in Section I.(A) and (B).

b. Logical Framework. The strategy should include an outline of the objectives, activities and indicators envisioned for implementation of the program.

c. Implementation Plan. The applicant must submit an implementation plan for the entire program, preferably with a visual such as a Gantt chart. The implementation plan should outline the approach that will be used to implement the program. The plan should list the activities envisioned for the life of the program as well as scheduling of activities by objective, starting with the execution of the cooperative agreement and ending with the final report. In describing the implementation plan, the applicant must address the following points:

(1) Describe the use of existing or potential infrastructure and use of qualified personnel, including qualified nationals, to implement the projects in Beijing as well as in selected pilot project cities. The applicant also must include a project organizational chart, demonstrating management structure, key personnel positions and indicating proposed links with the relevant government ministries, local government agencies/bureaus, NGOs, universities and other significant local actors.

(2) Develop a list of activities and explain how each relates to the overall development objectives as stated in Section I.

(3) Explain how appropriate IEC materials and training curriculum will be developed.

(4) Explain the strategy for coordinating activities conducted at the central government level with those conducted at the local (provincial/city) level.

(5) Demonstrate how the program will strengthen national government's capacity and enhance policies to protect the rights of workers as prescribed by national law.

(6) Demonstrate how the grantee would systematically monitor and report on project performance to measure the achievement of the project objective(s).

(7) Demonstrate how the grantee would build national and local capacity to ensure that project efforts to enhance the implementation and enforcement of national labor laws would be sustained after completion of the project.

d. Management and Staff Loading Plan. The management plan must also include a management and staff loading plan. The management plan should include the following:

(1) If two organizations are applying for the award in collaboration, they must demonstrate an approach to ensure successful collaboration including clear delineation of respective roles and responsibilities. The applicants must also identify the lead organization and submit the collaboration agreement.

(2) A project organization chart and accompanying narrative which differentiates between elements of the applicant's staff and subcontractors or consultants who will be retained;

(3) A description of the functional relationship between elements of the project's organization; and

(4) The identity of the individual(s) responsible for project management and the lines of authority between this/these individual(s) and other elements of the project.

The staff loading plan must identify all key tasks and the person-days required to complete each task. Labor estimates for each task must be broken down by individuals assigned to the task, including sub-contractors and consultants. All key tasks must be charted to show time required to perform them by months or weeks.

2. Experience and Qualifications of the Applicant (25 points)

The evaluation criteria in this category are as follows:

a. The applicant organization and collaborating organizations applying for the award must demonstrate experience of working on developmental projects in China or in countries with similar political, economic and social constraints.

b. The applicant must demonstrate prior experience of working directly with government ministries, local government organizations, employers, workers, NGOs and academic institutions, as well as with U.S. Missions, in the area of labor law.

c. The applicant must also demonstrate that it can negotiate and implement developmental projects in China and that it has the appropriate international experience and expertise to carry out program responsibilities in China.

d. The applicant must demonstrate that it has staff or is able to recruit staff that can communicate effectively with Chinese employers, workers, migrant workers, and Chinese officials. Preference will be given to applicant organizations with staff that have Chinese language skills.

e. The proposal must include information regarding previous grants, contracts or cooperative agreements relevant to this solicitation. This information must include:

(1) The organization for whom the work was done;

(2) A contact person in that organization with his/her current phone number;

(3) The dollar value of the grant, contract or cooperative agreement for the project(s);

(4) The time frame and administrative and programmatic effort involved in the project(s);

(5) A brief summary of the work performed; and

(6) A brief summary of accomplishments.

This information on previous grants and contracts shall be provided in appendices and will not count toward the 40-page maximum page requirement.

3. Experience and Qualifications of Key Personnel (25 points)

This section of the application must include sufficient information for judging the quality and the competence of key staff proposed to be assigned to the project(s) proposed to assure that they meet the required qualifications. Successful performance of the proposed work depends heavily on the qualifications of the individuals committed to the project. Accordingly, in its evaluation of each application, USDOL will place emphasis on the applicant's commitment of key personnel qualified for the work involved in accomplishing the assigned tasks. Information provided on the experience and educational background of personnel must indicate the following:

(a) The identity of key personnel assigned to the project. “Key personnel” are staff who are essential to the successful operation of the project and completion of the proposed work and, therefore, may not be replaced or have their hours reduced without the approval of the Grant Officer.

(b) The educational background, Chinese language skills, and experience of key personnel.

(c) The special capabilities of key personnel that demonstrate prior experience in organizing, managing and performing similar efforts.

(d) The current employment status of key personnel and availability for this project. The applicant must also indicate whether the proposed work will be performed by persons currently employed or is dependent upon planned recruitment or sub-contracting.

Note that management and professional technical staff members comprising the applicant's proposed team should be individuals who have prior experience with organizations working in similar efforts, and are fully qualified to perform work specified in the Statement of Work. Where sub-contractors or outside assistance is proposed, organizational control should be clearly delineated to ensure responsiveness to the needs of USDOL. Key personnel must sign letters of agreement to serve on the project, and indicate availability to commence work within three weeks of grant award.

The following information must be furnished:

(a) The applicant must designate a Program Director and other key personnel to oversee the program. The Program Director must have a minimum of three years of professional experience in a leadership role in implementation of complex labor programs in developing countries. He or she must demonstrate sufficient knowledge of and understanding of China's political and economic development, its government, and the complexity of China's current state-local relations. Chinese language (Mandarin) proficiency is highly desirable.

(b) The applicant should specify other key personnel proposed to carry out the requirements of this solicitation.

(c) An organization chart showing the applicant's proposed organizational structure for performing task requirements for the project(s) proposed, along with a description of the roles and responsibilities of all key personnel proposed for this project(s). The chart should also differentiate between elements of the applicant's staff and sub-contractors or consultants who will be retained.

(d) Identify all key tasks and the person-days required to complete each task. Labor estimates for each task must be broken down by individuals assigned to the task, including sub-contractors and consultants. All key tasks must be charted to show time required to perform them by months or weeks.

(e) A resume for each of the key personnel to be assigned to the program. At a minimum, each resume must include: The individual's current employment status and previous work experience, including position title, duties performed, dates in position, employing organizations and educational background, including Chinese language skills (if any). Duties must be clearly defined in terms of role performed, i.e., manager, team leader, consultant, etc. (Resumes must be included as attachments, which do not count toward the page limitation.)

(f) The special capabilities of staff that demonstrate prior experience in organization, managing and performing similar efforts.

(g) The current employment status of key personnel proposed for work under the cooperative agreement, i.e., whether personnel are currently employed by the organization or whether their employment depends upon planned recruitment or sub-contracting.

4. Budget Plan (10 points)

The applicant must develop one proposed budget for the implementation of the entire program, including pilot projects in localities. This section of the application must explain the costs for performing all of the requirements presented in this solicitation and for producing all required reports and other deliverables presented in this solicitation; costs must include labor, training, material production and dissemination, equipment, travel and other related costs. The budget plan will be evaluated solely for the purpose of determining the efficient and effective allocation of funding for proposed program implementation. Preference may be given to applicants with low administrative costs. Administrative costs shall be reflected separately on the budget plan from programmatic costs.

The budget must comply with Federal cost principles (which can be found in the applicable OMB Circulars) and with ILAB budget requirements contained in the application instructions in Section III of this solicitation.

This stated commitment will be incorporated into the text of the cooperative agreement with the selected applicant(s).

Signed in Washington, DC, on this 31 day of July, 2002.
Daniel P. Murphy,
Director, Procurement Services Center.

BILLING CODE 4510-28-P

[FR Doc. 02-19857 Filed 8-5-02; 8:45 am]

BILLING CODE 4510-28-C